FEDERAL COMMUNICATIONS COMMISSION

47 CFR Part 8

[PS Docket Nos. 23-239; FR ID 258059]

Public Safety and Homeland Security Bureau Announces 15-Business Day Filing Window for Cybersecurity Labeling Administrator and Lead Administrator Applications; Correction

AGENCY: Federal Communications Commission.

ACTION: Final rule; correction.

SUMMARY: The Federal Communications Commission is correcting the DATES section of a final rule that appeared in the Federal Register on October 21, 2024 announcing a 15-business day filing window for applications from entities seeking designation as a Cybersecurity Labeling Administrator (CLA) and Lead Administrator and also adopting additional requirements for CLAs and Lead Administrators.

DATES: Effective November 20, 2024.

FOR FURTHER INFORMATION CONTACT: Tara Shostek, Attorney Advisor, Cybersecurity and Communications Reliability Division, Public Safety and Homeland Security Bureau, (202) 418-8130, or by email to Tara.Shostek@fcc.gov.

SUPPLEMENTARY INFORMATION: In rule document 2024-23844 at 89 FR 84086, appearing on page 84086 in the Federal Register of Monday, October 21, 2024, in the third column, the DATES section is corrected to read as follows:

Effective date: November 20, 2024, except for amendment 3 (47 CFR 8.220(f)(14)) which is delayed indefinitely until the Office of Management and Budget has completed review under the Paperwork Reduction Act. The Commission will publish a document in the Federal Register announcing that effective date.

Federal Communications Commission.
Marlene Dortch,
Secretary.

[FR Doc. 2024-25404 Filed 10-31-24; 8:45 am]

BILLING CODE 6712-01-P